DEPARTMENT OF TRANSPORTATION

Office of the Secretary

Notice of Applications for Certificates of Public Convenience and Necessity and Foreign Air Carrier Permits Filed Under Subpart B (Formerly Subpart Q) During the Week Ending April 13, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-27790-3.

Date Filed: April 11, 2007.

Due Date for Answers, Conforming Applications, or Motion to Modify Scope: May 4, 2007.

Description: Application of United Parcel Service Co. requesting that the Department award it indefinite blanket authority to serve all existing U.S. open-skies partners, along with prospective blanket certificate authority to serve any future open-skies partner once an agreement between the United States and that partner is being applied by the two governments.

Docket Number: OST-2007-27790-2.

Date Filed: April 11, 2007.

Due Date for Answers, Conforming Applications, or Motion to Modify Scope: May 4, 2007.

Description: Application of Arrow Air, Inc. d/b/a Arrow Cargo requesting a certificate of public convenience and necessity to engage in scheduled foreign air transportation of property and mail between any points in the United States via intermediate points to a point or points in Albania, Aruba, Austria, Bahrain, Belgium, Bosnia-Herzegovina, Brunei Darussalam, Burkina Faso, Cameroon, Cape Verde, Chad, Chile, Cook Islands, Costa Rica, Czech Republic, Denmark, El Salvador, Ethiopia, Finland, France, Gabon, The Gambia, Germany, Ghana, Guatemala, Honduras, Iceland, India, Indonesia, Italy, Jamaica, Jordan, Korea Republic of, Kuwait, Liberia, Luxembourg, Madagascar, Malaysia, Maldives, Mali, Malta, Morocco, Namibia, Netherlands, Netherlands Antilles, New Zealand, Nicaragua, Nigeria, Norway, Oman, Pakistan, Panama, Paraguay, Peru, Poland, Portugal, Qatar, Romania, Samoa, Senegal, Singapore, Slovak Republic, Sri Lanka, Sweden, Switzerland, Taiwan, Tanzania, Thailand, Tonga, Turkey, Uganda, United Arab Emirates, Uruguay, Uzbekistan and to points beyond with full traffic rights to the extent the applicable aviation agreements grant such rights.

Docket Number: OST-2007-27790-6.

Date Filed: April 12, 2007.

Due Date for Answers, Conforming Applications, or Motion to Modify Scope: May 4, 2007.

Description: Application of Federal Express Corporation (“FedEx Express”) requesting indefinite blanket open-skies certificate authority, which will enable FedEx Express to serve current and future U.S. open-skies partners.

Docket Number: OST-2007-27790-5.

Date Filed: April 12, 2007.

Due Date for Answers, Conforming Applications, or Motion to Modify Scope:May 4, 2007.

Description: Application of Hawaiian Airlines, Inc. (“Hawaiian”) requesting a certificate of public convenience and necessity to operate between the United States and all countries with which the United States has “Open Skies” agreements now or in the future. Further Hawaiian asks that such authority allow it to integrate that authority so it may operate to and from any country to which DOT has given its certificate or exemption authority and to which Hawaiian has been designated.

Docket Number: OST-2007-27790-7.

Date Filed: April 12, 2007.

Due Date for Answers, Conforming Applications, or Motion to Modify Scope:May 4, 2007.

Description: Application of Eos Airlines, Inc. requesting a certificate of public convenience and necessity to obtain authority to provide foreign air transportation of persons, property and mail to all markets with which the U.S. has an open-skies agreement or may, in the future, enter into one.

Docket Number: OST-2007-27790-8.

Date Filed: April 13, 2007.

Due Date for Answers, Conforming Applications, or Motion to Modify Scope:May 4, 2007.

Description: Application of Polar Air Cargo, Inc. (“Polar”) and Polar Air Cargo Worldwide, Inc. (”PACW”) requesting issuance of a certificate of public convenience and necessity authorizing Polar and, at a later date, PACW to engage in foreign air transportation of property and mail between a point or points in the United States, on the one hand, and a point or points in those countries with which the United States has concluded or subsequently concludes open-skies air transport agreements, on the other, via intermediate points and beyond, to the extent the applicable aviation agreements grant such rights.

Docket Number: OST-2007-27790-9.

Date Filed: April 13, 2007.

Due Date for Answers, Conforming Applications, or Motion to Modify Scope:May 4, 2007.

Description: Application of Atlas Air, Inc. requesting a certificate of public convenience and necessity to engage in foreign air transportation of property and mail between a point or points in the United States, on the one hand, and a point or points in those countries with which the United States has concluded or subsequently concludes open skies air transport agreements, on the other, via intermediate points and beyond, to the extent the applicable aviation agreements grant such rights.

Docket Number: OST-2007-27790-10.

Date Filed: April 13, 2007.

Due Date for Answers, Conforming Applications, or Motion to Modify Scope:May 4, 2007.

Description: Application of Amerijet International, Inc. (“Amerijet”) requesting an indefinite blanket open-skies certificate of public convenience and necessity authorizing it to provide scheduled foreign air transportation of property and mail between points in the U.S. and a point or points in all countries with which the U.S. has an open-skies aviation agreement or may, in the future, enter into one. Amerijet also requests authority to integrate the authority requested herein with its existing certificate and exemption authority subject to the conditions normally imposed by the Department on such integration authority.

Docket Number: OST-2007-27790-11 and OST-1999-6246-14.

Date Filed: April 13, 2007.

Due Date for Answers, Conforming Applications, or Motion to Modify Scope:May 4, 2007.

Description: Supplement #6 of Delta Air Lines, Inc. requesting a new or amended certificate of public convenience and necessity for open entry routes to serve all open-skies MALIAT partner countries under the procedures set forth in the Open-Skies Certificate Notice and Order 2007-4-2.

Docket Number: OST-2007-27790-13.

Date Filed: April 13, 2007.

Due Date for Answers, Conforming Applications, or Motion to Modify Scope:May 4, 2007.

Description: Application of JetBlue Airways Corporation (“JetBlue”) requesting a certificate of public convenience and necessity to operate between the United States and all countries with which the United States has “Open Skies” agreements now or in the future. Further JetBlue asks that such authority allow it to integrate that authority so it may operate to and from any country to which DOT has given it certificate or exemption authority and to which JetBlue has been designated.

Docket Number: OST-2007-27790-14.

Date Filed: April 13, 2007.

Due Date for Answers, Conforming Applications, or Motion to Modify Scope:May 4, 2007.

Description: Application of Spirit Airlines, Inc. (“Spirit”) requesting indefinite blanket open-skies certificate authority to serve all existing U.S. open-skies partners and for prospective blanket certificate authority to serve any future open-skies partner once an agreement between the United States and that partner is being applied by the two governments. Further, Spirit asks that the Department permit it to integrate this certificate authority with Spirit's other certificate and exemption authority, consistent with applicable agreements between the United States and foreign governments. Finally, Spirit asks that the Department designate it for each of the open-skies partners, as necessary, to allow Spirit to respond quickly to new market opportunities.

Docket Number: OST-2007-27790-15.

Date Filed: April 13, 2007.

Due Date for Answers, Conforming Applications, or Motion to Modify Scope:May 4, 2007.

Description: Application of Brendan Airways, LLC d/b/a USA 3000 Airlines, Inc. (“USA 3000”) requesting blanket open-skies certificate authority, authorizing it to provide scheduled air transportation of persons, property and mail to all existing U.S.-Open Skies partners, along with prospective blanket certificate authority to serve any future open-skies partner once an agreement between the United States and that partner is being applied by the two governments without the need for further action by the carrier or the Department.

Docket Number: OST-2007-27790-16 and OST-2004-19398-5.

Date Filed: April 13, 2007.

Due Date for Answers, Conforming Applications, or Motion to Modify Scope:May 4, 2007.

Description: Amendment #1 of TradeWinds Airlines, Inc. to its current open-skies certificate of public convenience and necessity to the extent necessary to authorize it to provide scheduled air transportation of property and mail to include all countries that have concluded “Open Skies” Air Services Agreements with the United States since issuance of its current open-skies certificate, along with prospective blanket certificate authority to serve any future open-skies partner once an agreement between the United States and that partner comes into force and effect, without the need for further action by the carrier or the Department.

Docket Number: OST-2007-27790-17.

Date Filed: April 13, 2007.

Due Date for Answers, Conforming Applications, or Motion to Modify Scope:May 4, 2007.

Description: Application of Alaska Airlines, Inc. (“Alaska”) requesting a blanket certificate of public convenience and necessity of indefinite duration permitting Alaska to engage in the scheduled foreign air transportation of person, property and mail between the United States and all countries with which the United States has entered into an open skies agreement, as well as any country with which the United States may in the future enter into such an agreement, once the agreement is being applied by both countries.

Docket Number: OST-2007-27790-18.

Date Filed: April 13, 2007.

Due Date for Answers, Conforming Applications, or Motion to Modify Scope:May 4, 2007.

Description: Application of ATA Airlines, Inc. (“ATA”) requesting a blanket certificate of public convenience and necessity of indefinite duration permitting ATA to engage in the scheduled foreign air transportation of person, property and mail between the United States and all countries with which the United States has entered into an open skies agreement, as well as any country with which the United States may in the future enter into such an agreement, once the agreement is being applied by both countries.

Docket Number: OST-2007-27790-19.

Date Filed: April 13, 2007.

Due Date for Answers, Conforming Applications, or Motion to Modify Scope:May 4, 2007.

Description: Application of Florida West International Airways, Inc. (“FWIA”) requesting a blanket certificate of public convenience and necessity of indefinite duration permitting FWIA to engage in the scheduled foreign air transportation of person, property and mail between the United States and all countries with which the United States has entered into an open skies agreement, as well as any country with which the United States may in the future enter into such an agreement, once the agreement is being applied by both countries.

Docket Number: OST-2007-27790-20.

Date Filed: April 13, 2007.

Due Date for Answers, Conforming Applications, or Motion to Modify Scope:May 4, 2007.

Description: Application of Frontier Airlines, Inc. requesting blanket open-skies certificate authority to transport property, mail and travelers on routes between the U.S. and all countries which currently have, or in the future agree to, an open-skies agreement with the U.S.

Docket Number: OST-2007-27790-21 and OST-2004-19189-5.

Date Filed: April 13, 2007.

Due Date for Answers, Conforming Applications, or Motion to Modify Scope:May 4, 2007.

Description: Application of Centurion Air Cargo, Inc. (“Centurion”) requesting that its certificate of public convenience and necessity for Route 833 be amended: (1) add Cook Islands, Kuwait and Liberia to the list of open skies countries contained in Centurion's Route 833, and (2) include in the certificate a provision that authorizes Centurion to serve additional countries that may have an open-skies agreement with the U.S. that is being applied without the necessity for further action by the Department or Centurion.

Docket Number: OST-2007-27790-22.

Date Filed: April 13, 2007.

Due Date for Answers, Conforming Applications, or Motion to Modify Scope:May 4, 2007.

Description: Application of Evergreen International Airlines, Inc. requesting an indefinite blanket open-skies certificate of public convenience and necessity authorizing it to provide scheduled foreign air transportation of property and mail between points in the U.S. and a point or points in all countries with which the U.S. has an open-skies aviation agreement or may, in the future, enter into an open-skies aviation agreement.

Docket Number: OST-2007-27790-23.

Date Filed: April 13, 2007.

Due Date for Answers, Conforming Applications, or Motion to Modify Scope:May 4, 2007.

Description: Application of World Airways, Inc. requesting a certificate of public convenience and necessity to engage in foreign scheduled air transportation of persons, property and mail from a point or points in the United States, via intermediate points, to a point or points in all existing U.S. open skies partners, along with any future U.S. open-skies partners, and beyond.

Docket Number: OST-2007-27790-24.

Date Filed: April 13, 2007.

Due Date for Answers, Conforming Applications, or Motion to Modify Scope:May 4, 2007.

Description: Application of North American Airlines, Inc. requesting a certificate of public convenience and necessity to engage in foreign scheduled air transportation of persons, property and mail from a point or points in the United States, via intermediate points, to a point or points in all existing U.S. open skies partners, along with any future U.S. open-skies partners, and beyond.

Docket Number: OST-2007-27790-25.

Date Filed: April 13, 2007.

Due Date for Answers, Conforming Applications, or Motion to Modify Scope:May 4, 2007.

Description: Application of ASTAR Air Cargo, Inc. requesting a blanket open-skies certificate of public convenience and necessity of indefinite duration to provide all-cargo service (scheduled foreign air transportation of property and mail) between the United States and all current open-skies countries and any country with which the United States may in the future enter into such an agreement, where that agreement is being applied by both countries.

Docket Number: OST-2007-27790-26.

Date Filed: April 13, 2007.

Due Date for Answers, Conforming Applications, or Motion to Modify Scope:May 4, 2007.

Description: Application of MN Airlines, LLC d/b/a Sun Country Airlines requesting a new blanket “Open Skies” certificate authorizing it to provide scheduled air transportation of persons, property and mail to all existing U.S.-Open Skies partner countries, as well as prospective blanket certificate authority to serve any future open-skies partner once an agreement between the United States and that partner is being applied by the two governments, without the need for further action by DOT.

Docket Number: OST-2007-27790-27.

Date Filed: April 13, 2007.

Due Date for Answers, Conforming Applications, or Motion to Modify Scope:May 4, 2007.

Description: Application of Kalitta Air, L.L.C. requesting a certificate of public convenience and necessity authorizing it to conduct scheduled foreign air transportation of cargo between a point or points in the United States, via intermediate points, to a point or points in U.S. Open-Skies Agreement partner countries, and beyond, for an indefinite period.

Docket Number: OST-2007-27790-28.

Date Filed: April 13, 2007.

Due Date for Answers, Conforming Applications, or Motion to Modify Scope:May 4, 2007.

Description: Application of Custom Air Transport, Inc. requesting a certificate of public convenience and necessity authorizing it to conduct scheduled foreign air transportation of cargo between a point or points in the United States, via intermediate points, to a point or points in U.S. Open-Skies Agreement partner countries, and beyond, for an indefinite period.

Docket Number: OST-2007-27790-29.

Date Filed: April 13, 2007.

Due Date for Answers, Conforming Applications, or Motion to Modify Scope:May 4, 2007.

Description: Application of TEM Enterprises, d/b/a Xtra Airways requesting a certificate of public convenience and necessity authorizing it to conduct scheduled foreign air transportation of persons, property and mail between a point or points in the United States, via intermediate points, to a point or points in U.S. Open-Skies Agreement partner countries, and beyond, for an indefinite period.

Docket Number: OST-2007-27790-30.

Date Filed: April 13, 2007.

Due Date for Answers, Conforming Applications, or Motion to Modify Scope:May 4, 2007.

Description: Application of Ryan International Airlines, Inc. (“Ryan”) requesting a certificate of public convenience and necessity authorizing Ryan to engage in scheduled foreign air transportation of persons, property and mail between (i) a point or points in the United States and a point or points in all countries with existing “Open Skies” Air Services Agreements with the United States (“U.S. Open-Skies Partners”), via intermediate points and beyond; and (ii) a point or points in the United States and a point or points in all countries that in the future become U.S. Open-Skies Partners, via intermediate points and beyond.

Docket Number: OST-2007-27790-31.

Date Filed: April 13, 2007.

Due Date for Answers, Conforming Applications, or Motion to Modify Scope:May 4, 2007.

Description: Application of Capital Cargo International Airlines Inc. requesting a indefinite certificate of blanket open-skies authority to serve all existing U.S. open-skies partners, along with prospective blanket certificate authority to service any future open-skies partner once an agreement between the United States and that partner is being applied by the two governments.

Docket Number: OST-2007-27790-32.

Date Filed: April 13, 2007.

Due Date for Answers, Conforming Applications, or Motion to Modify Scope:May 4, 2007.

Description: Application of Allegiant Air, LLC (“Allegiant”) requesting a certificate of public convenience and necessity authorizing Allegiant to engage in scheduled foreign air transportation of persons, property and mail between (i) a point or points in the United States and a point or points in all countries with existing “Open Skies” Air Services Agreements with the United States (“U.S. open-skies partners”), via intermediate points and beyond; and (ii) a point or points in the United States and a point or points in all countries that in the future become U.S. open-skies partners, via intermediate points and beyond.

Docket Number: OST-2007-27790-33.

Date Filed: April 13, 2007.

Due Date for Answers, Conforming Applications, or Motion to Modify Scope:May 4, 2007.

Description: Application of Air Transport International, LLC requesting a certificate of public convenience and necessity authorizing it to engage in scheduled foreign air transportation of persons, property and mail between (i) a point or points in the United States via intermediate points and a point or points in all countries with existing “Open Skies” Air Services Agreements with the United States (“U.S. open-skies partners”), and beyond; and (ii) a point or points in the United States via intermediate points and a point or points in all countries who in the future become U.S. open skies partners, and beyond.

Docket Number: OST-2007-27790-34.

Date Filed: April 13, 2007.

Due Date for Answers, Conforming Applications, or Motion to Modify Scope:May 4, 2007.

Description: Application of MAXjet Airways, Inc. (“MAXjet”) requesting a certificate of public convenience and necessity authorizing MAXjet to engage in foreign scheduled air transportation of persons, property and mail from points behind the United States, via the United States and any intermediate points, to points in the territory of current and future open-skies treaty partners, and beyond.

Docket Number: OST-2007-27790-35.

Date Filed: April 13, 2007.

Due Date for Answers, Conforming Applications, or Motion to Modify Scope:May 4, 2007.

Description: Application of Gemini Air Cargo, Inc. requesting a certificate of public convenience and necessity for indefinite blanket authority to serve all existing U.S. open-skies partners, along with prospective blanket certificate authority to serve any future open-skies partner once an agreement between the United States and that partner is being applied by the two governments.

Renee V. Wright,
Program Manager, Docket Operations, Federal Register Liaison.

[FR Doc. E7-7992 Filed 4-25-07; 8:45 am]

BILLING CODE 4910-9X-P